DEPARTMENT OF TRANSPORTATION

Federal Highway Administration

Environmental Impact Statement: Franklin and Warren Counties, MO

AGENCY: Federal Highway Administration (FHWA), DOT.

ACTION: Notice of intent.

SUMMARY: The FHWA is issuing this notice to advise the public that an environmental impact statement (EIS) will be prepared for proposed improvements to Route 47 between Route 94 in Warren County and Fifth Street in the city of Washington in Franklin County, Missouri.

FOR FURTHER INFORMATION CONTACT: Ms. Peggy Casey, Environmental Projects Engineer, FHWA Division Office, 3220 West Edgewood, Suite H, Jefferson City, MO 65109, Telephone: (573) 636-7104; or Mr. Kevin Keith, Chief Engineer, Missouri Department of Transportation, P.O. Box 270, Jefferson City, MO 65102, Telephone: (573) 751-2803.

SUPPLEMENTARY INFORMATION: The FHWA, in cooperation with the Missouri Department of Transportation (MoDOT), will prepare an EIS for the replacement of the existing bridge over the Missouri River and relocation or reconstruction of Route 47 between Route 94 in Warren County and Fifth Street in the city of Washington in Franklin County, Missouri. A location study will run concurrently with the preparation of the EIS and will provide definitive alternatives for evaluation in the EIS. The EIS will fully analyze the issues, problems, and potential social and environmental impacts associated with improving or realigning Route 47 and constructing a new bridge. The goals of the proposed action are to improve safety, reduce congestion, and improve the reliability of Route 47 during Missouri River flood events.

The proposed project is located between Route 94 on the north in Warren County and Fifth Street on the south in the city of Washington in Franklin County. The project is approximately 4 miles in length.

Alternatives under consideration include (1) no build; (2) bridge replacement on existing location with improvements to the existing alignment; and (3) new alignments.

To date, preliminary information has been issued to local officials. As part of the scoping process, an interagency coordination meeting will be held with federal and state resource agencies. In addition, informational meetings with the public and community representatives will be held to solicit input on the project and reasonable range of alternatives. A location public hearing will be held to present the findings of the draft EIS (DEIS). Public notice will be given announcing the time and place of all public meetings and the hearing. The DEIS will be available for public and agency review and comment prior to the public hearing.

To ensure that the full range of issues related to this proposed action are addressed and all significant issues are identified, comments and suggestions are invited from all interested parties. Comments and questions concerning this proposed action and the EIS should be directed to the FHWA or MoDOT at the addresses provided above. Concerns in the study area include potential impacts to natural resources, cultural resources, and neighborhoods at the southern end of the study area. Improvements to the existing alignment could impact cultural resources and adjacent residences. Realignment of Route 47 with a new bridge location would have increased cost and natural (floodplain, wetland) and human impacts.

(Catalog of Federal Domestic Assistance Program Number 20.205, Highway Planning and Construction. The regulations implementing Executive Order 12372 regarding intergovernmental consultation on Federal programs and activities apply to this program.)

Issued on: April 16, 2008.
Peggy J. Casey,
Environmental Projects Engineer, Jefferson City.

[FR Doc. E8-8664 Filed 4-21-08; 8:45 am]

BILLING CODE 4910-22-P